DEPARTMENT OF COMMERCE

National Oceanic and Atmospheric Administration

RIN 0648-XC008

Endangered and Threatened Species; Recovery Plans

AGENCY: National Marine Fisheries Service (NMFS), National Oceanic and Atmospheric Administration (NOAA), Commerce.

ACTION: Notice; reopening of public comment period.

SUMMARY: We, NMFS, published a notice on May 16, 2012, announcing that the Proposed Endangered Species Act (ESA) Recovery Plan for Lower Columbia River Chinook Salmon, Lower Columbia River Coho Salmon, Columbia River Chum Salmon, and Lower Columbia River Steelhead (Proposed Plan) was available for public review and comment. Comments were due by July 16, 2012. We have decided to reopen the public comment period for an additional 30 days.

DATES: We will consider and address, as appropriate, all substantive comments received during this reopened comment period. Comments received during the previous comment period will also be considered and need not be resubmitted. New comments must be received no later than 5 p.m. Pacific daylight time on October 9, 2012.

ADDRESSES: Please send written comments and materials to Dr. Scott Rumsey, National Marine Fisheries Service, 1201 NE Lloyd Boulevard, Suite 1100, Portland, OR 97232. Comments may also be submitted by email to: nmfs.nwr.lowercolumbiaplan@noaa.gov. Please include “Comments on Lower Columbia Recovery Plan” in the subject line of the email. Comments may be submitted via facsimile (fax) to (503) 230-5441. Electronic copies of the Proposed Plan are available on the NMFS Web site at http://www.nwr.noaa.gov/Salmon-Recovery-Planning/Recovery-Domains/Willamette-Lower-Columbia/LC/Plan.cfm. Persons wishing to obtain an electronic copy on CD ROM of the Proposed Plan may do so by calling Kelly Gallivan at (503) 736-4721 or by emailing a request to kelly.gallivan@noaa.gov with the subject line “CD ROM Request for Lower Columbia Recovery Plan.”

FOR FURTHER INFORMATION CONTACT: Dr. Scott Rumsey, Salmon Recovery Branch Chief, Protected Resources Division, at (503) 872-2791, or scott.rumsey@noaa.gov.

SUPPLEMENTARY INFORMATION:

Background

On May 16, 2012, we published a notice announcing that the Proposed Plan was available for public review and comment (77 FR 28855). Comments were due by July 16, 2012. On June 22, 2012, we received a letter from the Pacific Fisheries Management Council (Council) requesting an extension of the public comment period. The Council noted that the comment period precluded the opportunity for their advisory bodies and staff to review the Proposed Plan and develop comments for approval at the September 2012 Council meeting. The Council is a valued partner in planning and implementing recovery for West Coast salmon and steelhead. To afford the Council sufficient opportunity to review the Proposed Plan and provide comments through their typical processes, we are reopening the comment period for 30 days. New comments will be due by October 9, 2012.

For background information on the development, content, and expected use of the Plan, please refer to the original notice of availability for public comment (77 FR 28855; May 16, 2012) or our Web site at http://www.nwr.noaa.gov/Salmon-Recovery-Planning/Recovery-Domains/Willamette-Lower-Columbia/LC/Plan.cfm.

Public Comments Solicited

We are soliciting written comments on the Proposed Plan. All substantive comments received by the date specified above will be considered and incorporated, as appropriate, prior to our decision whether to approve the plan. We will issue a news release announcing the adoption and availability of a final plan. We will post on the Northwest Region Web site (www.nwr.noaa.gov) a summary of, and responses to, the comments received, along with electronic copies of the final plan and its appendices.

Authority: 16 U.S.C. 1531 et seq.

Dated: September 4, 2012.
Angela Somma,
Chief, Endangered Species Conservation Division, Office of Protected Resources, National Marine Fisheries Service.

[FR Doc. 2012-22110 Filed 9-6-12; 8:45 am]

BILLING CODE 3510-22-P